DEPARTMENT OF HEALTH AND HUMAN SERVICES

National Institutes of Health

Office of the Secretary; Notice of Meeting

Pursuant to section 10(a) of the Federal Advisory Committee Act, as amended, notice is hereby given of a meeting of the Muscular Dystrophy Coordinating Committee (MDCC).

The meeting will be open to the public. Individuals who plan to participate and need special assistance, such as sign language interpretation or other reasonable accommodations, should notify the Contact Person listed below in advance of the meeting.

Name of Committee: Muscular Dystrophy Coordinating Committee.

Date: October 3, 2022.

Time: 1:00 p.m. to 5:00 p.m. EDT.

Agenda: The purpose of this meeting is to bring together committee members, representing government agencies, patient advocacy groups, other voluntary health organizations, and patients and their families to update one another on progress relevant to the Action Plan for the Muscular Dystrophies and to coordinate activities and discuss gaps and opportunities leading to better understanding of the muscular dystrophies, advances in treatments, and improvements in patients' and their families' lives. The agenda for this meeting will be available on the MDCC website: https://www.mdcc.nih.gov/.

Registration: To register, please go to: https://roseliassociates.zoomgov.com/webinar/register/WN_ZAC101DzRVy7jcFHmIIIJw.

Webcast Live: https://videocast.nih.gov/.

Place: National Institutes of Health, Neuroscience Center, 6001 Executive Blvd., Bethesda, MD 20892 (Virtual Meeting).

Contact Person: Glen Nuckolls, Ph.D., Program Director, National Institute of Neurological, Disorders and Stroke (NINDS), NIH, 6001 Executive Blvd., Rm 2203, Bethesda, MD 20892, 301-496-5876, MDCC@nih.gov.

Any interested person may file written comments with the committee by forwarding the statement to the Contact Person listed on this notice. The statement should include the name, address, telephone number and when applicable, the business or professional affiliation of the interested person.

More information can be found on the Muscular Dystrophy Coordinating Committee home page: https://mdcc.nih.gov/.

Dated: September 1, 2022.
Miguelina Perez,
Program Analyst, Office of Federal Advisory Committee Policy.

[FR Doc. 2022-19381 Filed 9-7-22; 8:45 am]

BILLING CODE 4140-01-P